DEPARTMENT OF THE TREASURY

Submission for OMB Review; Comment Request

November 10, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before December 18, 2003 to be assured of consideration.

Departmental Offices/Office of International Monetary and Financial Policy

OMB Number: 1505-0010.

Form Number: FC-2.

Type of Review: Extension.

Title: Monthly Consolidated Foreign Currency Report of Major Market Participants.

Description: Collection of information on Form FC-2 is required by law. Form FC-2 is designed to collect timely information on foreign exchange contracts purchased and sold; foreign exchange futures purchased and sold; foreign currency options and net delta equivalent value; foreign currency denominated assets and liabilities; net reported dealing position.

Respondents: Business or other for-profit, Not-for-profit institutions.

Estimated Number of Respondents: 21.

Estimated Burden Hours Per Respondent: 4 hours.

Frequency of Response: Monthly.

Estimated Total Reporting Burden: 1,008 hours.

OMB Number: 1505-0012.

Form Number: FC-1.

Type of Review: Extension.

Title: Weekly Consolidated Foreign Currency Report of Major Market Participants.

Description: Collection of information on Form FC-1 is required by law. Form FC-1 is designed to collect timely information on foreign exchange spot, forward and futures purchased and sold; net options position, delta equivalent value long or short; net reported dealing position long or short.

Respondents: Business or other for-profit, Not-for-profit institutions.

Estimated Number of Respondents: 21.

Estimated Burden Hours Per Respondent: 1 hour.

Frequency of Response: Weekly.

Estimated Total Reporting Burden: 1,092 hours.

OMB Number: 1505-0014.

Form Number: FC-3.

Type of Review: Extension.

Title: Quarterly Consolidated Foreign Currency Report.

Description: Collection of information on Form FC-3 is required by law. Form FC-3 is designed to collect timely information on foreign exchange contracts purchased and sold; foreign exchange futures purchased and sold; foreign currency denominated assets and liabilities; foreign currency options and net delta equivalent value.

Respondents: Business or other for-profit, Not-for-profit institutions.

Estimated Number of Respondents: 51.

Estimated Burden Hours Per Respondent: 8 hours.

Frequency of Response: Quarterly.

Estimated Total Reporting Burden: 1,632 hours.

Clearance Officer: Lois K. Holland, (202) 622-1563, Departmental Offices, Room 11000, 1750 Pennsylvania Avenue, NW., Washington, DC 20220.

OMB Reviewer: Joseph F. Lackey, Jr., (202) 395-7316, Office of Management and Budget, Room 10235, New Executive Office Building, Washington, DC 20503.

Mary A. Able,
Treasury PRA Clearance Officer.

[FR Doc. 03-28777 Filed 11-17-03; 8:45 am]

BILLING CODE 4810-25-P